NATIONAL SCIENCE FOUNDATION

Notice of Permit Applications Received Under the Antarctic Conservation Act of 1978 (Pub. L. 95-541)

AGENCY: National Science Foundation.

ACTION: Notice of permit applications received under the Antarctic Conservation Act of 1978, Public Law 95-541.

SUMMARY: The National Science Foundation (NSF) is required to publish a notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by September 25, 2013. This application may be inspected by interested parties at the Permit Office, address below.

ADDRESSES: Comments should be addressed to Permit Office, Room 755, Division of Polar Programs, National Science Foundation, 4201 Wilson Boulevard, Arlington, Virginia 22230.

FOR FURTHER INFORMATION CONTACT: Adrian Dahood, ACA Permit Officer, at the above address or ACApermits@nsf.gov or (703) 292-7149.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

Application Details

1. Applicant Permit Application: 2014-009, Peter West, National Science Foundation, Arlington Virginia.

Activity for Which Permit Is Requested

ASPA Entry; The National Science Foundation, as U.S. taxpayer supported government agency, routinely selects members of the U.S. news media to visit Antarctica and report on the science the foundation facilitates there. The newsgathering process requires journalists to visit specific sites and to speak with the researchers conducting science there. Any interviews, photographs or video gathered during visits to ASPAs would be used to inform the general public about the importance of the science conducted on the continent. Visits to the ASPAs listed in this application would take place in conjunction with valid scientific activities, for the express purposes of gathering images, footage, or information on scientific research, general scenic locations, and interviews with scientists working in the field. Journalists visiting Antarctica will be accompanied at all times by an NSF staff “escort”. The escort will be a person who has years of experience working with field parties, with scientists and with journalists. The escort is cognizant of—and will follow the requirements contained in—the ASPA management plans and the Antarctic Conservation Act. They will insure that every effort is made to practice “low impact” documentary procedures with regard to the natural environment as well as to adhere to all USAP operations and procedures.

Location

ASPA 121: Cape Royds, Ross Island.

ASPA 122: Arrival Heights, Ross Island.

ASPA 124: Cape Crozier, Ross Island.

ASPA 157: Backdoor Bay, Cape Royds (Shackleton's Hut), Ross Island.

ASPA 158: Cape Evans (Scott's Hut), Ross Island.

Dates

October 1, 2013 to September 30 2018.

Nadene G. Kennedy,
Polar Coordination Specialist, Division of Polar Programs.

[FR Doc. 2013-20704 Filed 8-23-13; 8:45 am]

BILLING CODE 7555-01-P